NATIONAL SCIENCE FOUNDATION

Agency Information Collection Activities: Comment Request

AGENCY: National Science Foundation.

ACTION: Submission for OMB Review; Comment Request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 70 FR 20937 and one comment was received. NSF is forwarding the proposed submission to the Office of Management and Budget (OMB) for clearance simultaneously with the publication of this second notice.

DATES: Comments regarding these information collections are best assured of having their full effect if received by OMB within 30 days of publication in the Federal Register.

ADDRESSES: Written comments regarding (a) Whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimption, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION:

Comment: On April 22, 2005, we published in the Federal Register (70 FR 20937) a 60-day notice of our intent to request renewal of this information collection authority from OMB. In that notice, we solicited public comments for 60 days ending June 21, 2005. One comment was received from the public notice. The comment came from B. Sachau of Floram Park, NJ., via e-mail on April 30, 2005. Ms. Sachau had no specific suggestions for altering the data collection, other than to express a desire for it to end.

Response: NSF believes that because the comment does not pertain to the collection of information or the required forms for which NSF is seeking OMB approval, NSF is proceeding with the clearance request.

Title of Collection: Cross-Project Evaluation of The National Science Foundation's Local Systemic Change Through Teacher Enhancement Program (LSC).

OMB Approval Number: 3145-0161.

Abstract: The National Science Foundation (NSF) requests a three-year extension for evaluation and data collection (e.g., surveys and interviews) from participants in projects funded by the Local Systemic Change (LSC) through Teacher Enhancement (TE) program. This recurring study or “Cross-Project Evaluation” was most recently approved through July 2005 (OMB 345-0161). The LSC program is a large-scale effort to modify the nature of teacher in-service training (also called professional development) provided to science and mathematics teachers in a large number of school districts across the United States. NSF provided each individual project with a grant(s) of up to $6 million.

Data collection from the NSF-funded LSC projects has been going on for a long number of years. The surveys and interview protocols are part of a longitudinal data collection used for program-wide monitoring and evaluation of the remaining LSC projects. The universe of LSC projects the last time this collection was renewed was 72. The current universe for this study of LSC projects is 15. NSF does not anticipating making new project awards under the LSC program. As in the past each of the projects will administer teacher and principal questionnaires (surveys) at appropriate times during the school year based on each the evaluation's design.

Horizon Research, Inc. maintains survey responses in a database designed to provide information and reports on LSC projects for individual project accountability and for overall assessment to help NSF judge program effectiveness. Horizon's data analysis and reports are useful both to the projects themselves for self-assessments and to the NSF in order to help to measure the LSC program's performance. In particular, NSF uses these data to respond to requests from Committees of Visitors, Congress and the Office of Management and Budget, particularly as related to the Government Performance and Results Act (GPRA) and the Program Effectiveness Rating Tool (PART).

Horizon's reports to NSF deal with the characteristics and performance of the LSC program and include tables and charts generated from the database. The LSC study's broad questions addressed by data analysis include (but are not limited to):

What is the impact of the LSC projects on science and mathematics curriculum, instruction, and assessment? How do participant reports of instructional practice change over the course of the LSC projects? How do participant reports of assessment practice change over the course of the projects? How do teacher and principal beliefs about effective science and mathematics instruction change over the course of the NSF-funding for the projects? What is the overall quality of the professional development activities? How do participants rate various aspects of professional development experiences provided by the projects? What is the extent of teacher involvement in these projects?

Respondents: Individuals or households, and not-for-profit institutions.

Number of Respondents: 5650.

Burden on the Public: 1870 hours.

Dated: July 27, 2005.
Suzanne H. Plimpton,
Reports Clearance Officer, National Science Foundation.

[FR Doc. 05-15225 Filed 8-1-05; 8:45 am]

BILLING CODE 7555-01-M